DEPARTMENT OF COMMERCE

Foreign-Trade Zones Board

(Docket 71-2008)

Foreign-Trade Zone 65 -- Panama City, Florida, Application for Expansion

An application has been submitted to the Foreign-Trade Zones (FTZ) Board (the Board) by the Panama City Port Authority, grantee of FTZ 65, requesting authority to expand its existing zone to include additional sites within and adjacent to the Panama City, Florida Customs and Border Protection port of entry. The application was submitted pursuant to the provisions of the Foreign-Trade Zones Act, as amended (19 U.S.C. 81a-81u), and the regulations of the Board (15 CFR Part 400). It was formally filed on December 16, 2008.

FTZ 65 was approved by the Board on January 16, 1981 (Board Order 171, 46 FR 8072, 1/26/81) and expanded on March 3, 1987 (Board Order 343, 52 FR 7634, 3/12/87).

The general-purpose zone project currently consists of three sites (558 acres) in the Panama City area: Site 1 (125 acres) -- the Panama City Industrial Park located on St. Andrew Bay and the intra-coastal waterway in Panama City; Site 2 (174 acres) -- the Hugh Nelson Industrial Park located off of Highway 390 in Panama City; and, Site 3 (259 acres) -- the Bay Industrial Park located northeast of the intersection of Highway 231 and Highway 167 in Bay County.

The applicant is now requesting authority to expand the general-purpose zone to include two additional sites as follows: Proposed Site 4 (78 acres) -- within the 130-acre Tommy R. McDonald Industrial Park, located at Industrial Drive and Commerce Avenue in Chipley (Washington County); and, Proposed Site 5 (214 acres) the Washington County Industrial park, located north of Highway 90 at the intersection of Highway 273 and North Boulevard in Chipley (Washington County). The applicant is also requesting authority to expand existing Site 3 to include the adjacent Bay Intermodal Park (251 acres), located at Highway 231 and Commerce Boulevard in Panama City. Proposed Site 4 is owned by the City of Chipley as well as various private companies, proposed Site 5 is owned by Washington County and the City of Chipley, and the acreage to be included in the proposed expansion of Site 3 is owned by the applicant. The sites will be used primarily for warehousing and distribution activities. No specific manufacturing authority is being requested at this time. Such requests would be made to the Board on a case-by-case basis.

In accordance with the Board's regulations, Christopher Kemp of the FTZ staff is designated examiner to investigate the application and report to the Board.

Public comment is invited from interested parties. Submissions (original and 3 copies) shall be addressed to the Board's Executive Secretary at the address listed below. The closing period for their receipt is February 23, 2009. Rebuttal comments in response to material submitted during the foregoing period may be submitted during the subsequent 15-day period to March 9, 2009.

A copy of the application and accompanying exhibits will be available for public inspection at each of the following locations: The Panama City Port Authority, 5321 West Highway 98, Panama City, FL 32401; and, Office of the Executive Secretary, Foreign-Trade Zones Board, Room 2111, U.S. Department of Commerce, 1401 Constitution Avenue NW, Washington, D.C. 20230.

For further information, contact Christopher Kemp at christopher_kemp@ita.doc.gov or (202) 482-0862.

Dated: December 16, 2008.
Andrew McGilvray,
Executive Secretary.

[FR Doc. E8-30689 Filed 12-23-08; 8:45 am]

BILLING CODE 3510-DS-S